DEPARTMENT OF HOMELAND SECURITY

Bureau of Customs and Border Protection

Notice of Cancellation of Customs Broker Permit

AGENCY: Bureau of Customs and Border Protection, U.S. Department of Homeland Security.

ACTION: General Notice.

SUMMARY: Pursuant to section 641 of the Tariff Act of 1930, as amended, (19 U.S.C. 1641) and the Customs Regulations (19 CFR 111.51), the following Customs broker permits are cancelled without prejudice.

Name | Permit No. | Issuing port
Aries International Import Services | 05-026 | Washington, DC.
Action International, Inc. | 18-0139 | Tampa.
Michael A. Marks dba Straight Forward | 11120-P | San Francisco.
Panalpina, Inc | 18-03-554 | Tampa.
Lois B. Sproul | 17-03-AWG | Atlanta.

Dated: September 26, 2005.
Jayson P. Ahern,
Assistant Commissioner, Office of Field Operations.

[FR Doc. 05-19767 Filed 9-30-05; 8:45 am]

BILLING CODE 9110-06-P 1